DEPARTMENT OF JUSTICE

Antitrust Division

Notice Pursuant to the National Cooperative Research and Production Act of 1993—Data Interchange Standards Association, Secretariat for ANSI ASC X12

Notice is hereby given that, on September 21, 2004, pursuant to section 6(a) of the National Cooperative Research and Production Act of 1993, 15 U.S.C. 4301 et seq. (“the Act”), Data Interchange Standards Association, Secretariat for ANSI ASC X12 (“X12”) has filed written notifications simultaneously with the Attorney General and the Federal Trade commission disclosing (1) the same and principal place of business of the standards development organization and (2) the nature and scope of its standards development activities. The notifications were filed for the propose of invoking the Act's provisions limiting the recovery of antitrust plaintiffs to actual damages under specified circumstances.

Pursuant to section 6(b) of the Act, the name and principal place of business of the standards development organization is: Data Interchange Standards Association, Secretariat for ANSI ASC X12, Falls Church, VA. The nature and scope of X12's standards development activities are: to develop, maintain, interpret, publish and promote the proper use of electronic business interchange standards, which may be based on, but are not limited to, the Electronic Data Interchange (“EDI”) or the Extensible Markup Language (“XML”) syntaxes. Standards activities undertaken by X12 may encompass any subject area for which electronic business interchange standards can be developed. Subject areas include, but are not limited to, order processing, shipping and receiving, invoicing, payment and cash application data, transportation, product development, manufacturing, quality, marketing, and data to and from entities involved in finance, insurance, education, and state and federal governments. This includes activities leading to both American National Standards and international standards.

Dorothy B. Fountain,
Deputy Director of Operations, Antitrust Division.

[FR Doc. 04-27539 Filed 12-15-04; 8:45 am]

BILLING CODE 4410-11-M